DEPARTMENT OF TRANSPORTATION

Federal Aviation Administration

Advisory Circular 23-23, Standardization Guide for Integrated Cockpits in Part 23 Airplanes

AGENCY: Federal Aviation Administration (FAA), DOT.

ACTION: Notice of issuance of advisory circular.

SUMMARY: This notice announces the issuance of Advisory Circular (AC) 23-23, Standardization Guide for Integrated Cockpits in Part 23 Airplanes. The AC acknowledges the General Aviation Manufacturers Association (GAMA) Publication #12, “Recommended Practices and Guidelines for an Integrated Flightdeck/Cockpit in a 14 CFR Part 23 (or equivalent) Certificated Airplane,” as an acceptable means for showing compliance with applicable requirements for electronic displays in part 23 airplanes. The AC acknowledges a publication that was developed using a public process; therefore, we are issuing the AC in a final form.

DATES: The Manager of the Small Airplane Directorate issued Advisory Circular 23-23 on September 30, 2004.

FOR FURTHER INFORMATION CONTACT: Mr. Lowell Foster, Standards Office, ACE-111, 901 Locust, Kansas City, Missouri 64106; telephone 816-329-4125.

How to Obtain Copies: A paper copy of AC 23-23 may be obtained by writing to the U. S. Department of Transportation, Subsequent Distribution Office, DOT Warehouse, SVC-121.23, Ardmore East Business Center, 3341Q 75th Ave., Landover, MD 20785, telephone 301-322-5377, or by faxing your request to the warehouse at 301-386-5394. The AC will also be available on the Internet at http://www.airweb.faa.gov/AC.

A copy of the GAMA Publication #12 is available from GAMA. Their Web site is http://www.gama.aero. A combined industry and FAA team developed the GAMA publication.

Issued in Kansas City, Missouri on September 30, 2004.
Dorenda D. Baker,
Manager, Small Airplane Directorate, Aircraft Certification Service.

[FR Doc. 04-23389 Filed 10-18-04; 8:45 am]

BILLING CODE 4910-13-P